DEPARTMENT OF ENERGY

Federal Energy Regulatory Commission

[Docket No. IC22-14-000]

Commission Information Collection Activities (FERC-604) Comment Request; Extension

AGENCY: Federal Energy Regulatory Commission, Department of Energy.

ACTION: Notice of information collection and request for comments.

SUMMARY: In compliance with the requirements of the Paperwork Reduction Act of 1995 (PRA), the Federal Energy Regulatory Commission (Commission or FERC) is soliciting public comment on the currently approved requirements and burden of information collection, FERC- 604 (Cash Management Agreements).

DATES: Comments on the collections of information are due August 15, 2022.

ADDRESSES: You may submit comments (identified by Docket No. IC22-14-000) on FERC-604 by one of the following methods. Electronic filing through http://www.ferc.gov is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (Including Courier) Delivery: Deliver to: Federal Energy Regulatory Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, or by telephone at (202) 502-8663.

SUPPLEMENTARY INFORMATION: Title: FERC-604 (Cash Management Agreements).

OMB Control No.: 1902-0267.

Type of Request: Three-year extension of the FERC-604 with no changes to the current reporting requirements.

Abstract: This collection of information is authorized by the following statutory provisions:

• Sections 8 and 10 of the Natural Gas Act (15 U.S.C. 717g and 717i);

• Sections 301 and 304 of the Federal Power Act (16 U.S.C. 835 and 825c); and

• Sections 20(1) and 20(5) of the Interstate Commerce Act (49 App. U.S.C. 20(1) and 20(5)).

Cash management or “money pool” programs typically concentrate affiliates' cash assets in joint accounts for the purpose of providing financial flexibility and lowering the cost of borrowing. In a 2001 investigation, FERC staff found that balances in cash management programs affecting FERC-regulated entities totaled approximately $16 billion. Additionally, other investigations revealed large transfers of funds (amounting to more than $1 billion) between regulated pipeline affiliates and non-regulated parents whose financial conditions were precarious. The Commission found that these and other fund transfers and the enormous (mostly unregulated) pools of money in cash management programs could detrimentally affect regulated rates.

To protect customers and promote transparency, the Commission issued Order 634-A (2003) requiring entities to formalize in writing and file with the Commission their cash management agreements. At that time, the Commission obtained OMB clearance for this new reporting requirement under the FERC-555 information collection (OMB Control No. 1902-0098). Now, the Commission includes these reporting requirements for cash management agreements under the FERC-604 information collection (OMB Control No. 1902-0267). The Commission implemented these reporting requirements in 18 CFR 141.500, 260.400, and 357.5.

Type of Respondents: Public utilities, natural gas companies, and oil pipeline companies.

Estimate of Annual Burden.¹ The Commission estimates the annual public reporting burden for the information collection as:

¹ Burden is defined as the total time, effort, or financial resources expended by persons to generate, maintain, retain, or disclose or provide information to or for a federal agency. See 5 CFR 1320 for additional information on the definition of information collection burden.

² The Commission staff estimates that the industry's hourly cost for wages plus benefits is similar to the Commission's $87.00 FY 2021 average hourly cost for wages and benefits.

FERC-604, Cash Management Agreements
Number of respondents | Number of responses per respondent | Total number of responses | Average burden hours & average cost ² per response ($) | Total annual burden hours & total annual cost ($) | Cost per respondent ($)
(1) | (2) | (1) * (2) = (3) | (4) | (3) * (4) = (5) | (5) ÷ (1) = (6)
45 | 1 | 45 | 1.5 hours; $130.50 | 67.5 hours; $5,872.50 | $130.50

Comments: Comments are invited on: (1) whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

Dated: June 8, 2022.
Kimberly D. Bose,
Secretary.

[FR Doc. 2022-12766 Filed 6-13-22; 8:45 am]

BILLING CODE 6717-01-P